DEPARTMENT OF DEFENSE

Department of the Army, Corps of Engineers

Intent To Prepare an Environmental Impact Statement (EIS) for the Pebble Project

AGENCY: U.S. Army Corps of Engineers, Department of Defense.

ACTION: Notice of intent.

SUMMARY: The Alaska District, U.S. Army Corps of Engineers (the Corps) intends to prepare a Draft Environmental Impact Statement (DEIS) to assess the potential social, economic, and environmental impacts associated with the proposed Pebble open pit mine in wetlands, streams and Ocean near Cook Inlet. The EIS will assess potential effects of a range of alternatives.

DATES: Public scoping meetings are tentatively scheduled in Anchorage, Homer, Dillingham, King Salmon (Naknek), Iliamna (Newhalen), Nondalton, and Kokhanok (Iguigig) will occur in mid-April 2018. Information about these meetings and meeting dates will be published locally, posted at http://www.pebbleprojecteis.com, and available by contacting the Corps.

ADDRESSES: U.S. Army Corps of Engineers, P.O. Box 6898, Joint Base Elmendorf Richardson, AK 99506-0898.

FOR FURTHER INFORMATION CONTACT: Questions about the proposed action and the Draft EIS should be referred to: Mr. Shane McCoy, Regulatory Division, telephone: (907) 753-2715 at http://www.pebbleprojecteis.com or by mail to the above address. To be added to the project mailing list and for additional information, please visit the following website: http://www.pebbleprojecteis.com.

SUPPLEMENTARY INFORMATION: An application for a Department of the Army permit was submitted by the Pebble Limited Partnership pursuant Section 404 of the Clean Water Act (33 U.S.C. 1344) and Section 10 of the Rivers and Harbors Act of 1899 (33 U.S.C. 403) on December 22, 2017, and was advertised in a Public Notice, POA-2017-271, on January 5, 2018. The public notice is available on Alaska District's public website at: http://www.poa.usace.army.mil//Portals/34/docs/regulatory/publicnotices/2018/POA-2017-271%20Pebble_PN.pdf?ver=2018-01-05-153755-640.

1. Description of the Proposed Project. Pebble Limited Partnership (PLP) is proposing to develop the Pebble copper-gold-molybdenum porphyry deposit as an open-pit mine, with associated infrastructure, in southwest Alaska, north of Lake Iliamna. The proposed project would require approximately four years to construct, with a projected mine life of approximately 20 years. Major project components include excavation of an open pit, that ultimately would be approximately 6,500 feet long by 5,500 feet wide, with depths between 1,330 and 1,750 feet; a tailings impoundment with 1.1 billion tons storage volume; a low grade ore stockpile with the capacity to store up to 330 million tons; an open pit overburden stockpile; a mill facility processing approximately 160,000 tons of ore per day; a natural gas-fired power plant with a total connected load of 230 mega-watt (MW), supplied by a 188-mile, 10 to 12-inch diameter, natural gas pipeline across Cook Inlet and Iliamna Lake to the Mine Site; and transportation infrastructure including a 30-mile road from the Mine Site to a ferry terminal on the north shore of Iliamna Lake, an 18-mile crossing with an ice-breaking ferry to a terminal on the south shore of Iliamna Lake, and a 35-mile road to the proposed Amakdedori Port on Cook Inlet. The proposed mine and related facilities would have a total footprint of approximately 5.9 square miles.

The pipeline route would originate on the Kenai Peninsula, connecting to the existing gas pipeline infrastructure near Happy Valley. A metering station would be constructed at the off-take point and the pipeline would then follow south along the Sterling Highway for 9 miles to a gas-fired compressor station north of Anchor Point. The compressor station would feed a 94-mile subsea pipeline from the east shore of Cook Inlet to Amakdedori Port on the west shore. A second gas-fired compressor station would be located at the port site. The pipeline route would then follow a 30-mile mine access road to the south shore of Iliamna Lake, where the pipeline would enter Iliamna Lake for approximately 18 miles. The pipeline would come ashore at on the north shore of the lake, where it would follow the mine access road to the Mine Site.

2. Alternatives. A range of alternatives of the proposed action will be identified, and those found to be reasonable and practicable will be fully evaluated in the DEIS, including: the no action alternative, the applicant's proposed alternative, alternative mine locations and mine plans, alternative mining methods and processes, alternatives that may result in avoidance and minimization of impacts, and mitigation measures not in the proposed action. However, this list is not exclusive and additional alternatives may be considered for inclusion.

3. Scoping Process and Public Involvement. The scoping period will extend from April 1, 2018, through April 30, 2018. Scoping is conducted to assist in determining the scope of analysis, significant issues and alternatives to be analyzed in depth in the DEIS. Comments should be as specific as possible. Additional public involvement will be sought through the implementation of the public involvement plan and the agency coordination team.

4. Significant Issues. Numerous issues will be analyzed in depth in the DEIS related to the effects of the proposed Pebble mine and associated infrastructure construction, operation, and closure. These issues will include, but will not be limited to, the following: wetlands, water quality, air quality, hazardous materials, fish and wildlife, vegetation, cultural resources, food production, land use, needs and welfare of the people (socioeconomics including commercial fishing and tourism), recreation, general environmental concerns, historic properties, navigation, and safety.

5. Additional Review and Consultation. Additional review and consultation which will be incorporated into the preparation of the DEIS will include, but are not necessarily limited to coordination under Section 401 of the Clean Water Act, Essential Fish Habitat coordination; consultation under Section 7 of the Endangered Species Act; and consultation under the National Historic Preservation Act

Shelia Newman,
Deputy Chief, Regional Regulatory Division, U.S. Army Corps of Engineers, Alaska District.

[FR Doc. 2018-06369 Filed 3-28-18; 8:45 am]

BILLING CODE 3720-58-P